DEPARTMENT OF ENERGY

10 CFR Part 431

[Docket No. EERE-2010-BT-STD-0048]

RIN 1904-AC04

Energy Conservation Standards for Distribution Transformers: Public Meeting and Availability of Supplementary Analysis

AGENCY: Office of Energy Efficiency and Renewable Energy, Department of Energy.

ACTION: Notice of public meeting and availability of documentation.

SUMMARY: The U.S. Department of Energy (DOE or Department) will hold a public meeting to discuss additional information that it is making available about the liquid-immersed distribution transformer equipment classes that were analyzed in a previously issued notice of proposed rulemaking (NOPR). Specifically, DOE is supplementing the NOPR analysis to include additional trial standard levels (TSLs) that embody separate equipment classes for several different types of liquid-immersed distribution transformers. In addition to this notice and the public meeting, DOE has several documents and analytical tools available to interested parties on its Web site. The documents describe the technical information in more detail and the software modeling tools that can be used by interested parties to evaluate how this information affects the results of certain aspects of DOE's key economic analyses. Through this notice and public meeting, DOE invites comment, data, and information about the considered equipment classes and their effects on DOE's analysis, results, and (TSLs).

DATES: DOE will hold a public meeting on June 20, 2012, from 9 a.m. to 1 p.m. in Washington, DC. Additionally, DOE plans to allow for participation in the public meeting via webinar. DOE will accept comments, data, and other information regarding this information before and after the public meeting, but not later than June 29, 2012. See section II, “Public Participation,” of this notice of public meeting (NOPM) for details.

ADDRESSES: To inform interested parties and facilitate this process, DOE is preparing an agenda, a summary of analysis performed, and briefing materials, which will be available on the program Web site at: http://www1.eere.energy.gov/buildings/appliance_standards/commercial/distribution_transformers.html.

The public meeting will be held at the U.S. Department of Energy, Forrestal Building, Room 8E-089, 1000 Independence Avenue SW., Washington, DC 20585-0121. Please note that any foreign national who wishes to participate in the public meeting is subject to advance security screening procedures that require early notice prior to attending the public meeting. Any foreign national who wishes to participate in the public meeting, must so inform DOE as soon as possible by contacting Ms. Brenda Edwards at (202) 586-2945, so that the necessary procedures can be completed.

Interested persons may submit comments, identified by docket number EERE-2010-BT-STD-0048 or regulation identifier number (RIN) 1904-AC04, by any of the following methods:

• Federal eRulemaking Portal: www.regulations.gov. Follow the instructions for submitting comments.

• Email: DistributionTransformers-2010-STD-0048@ee.doe.gov. Include the docket number EERE-2010-BT-STD-0048 and/or RIN 1904-AC04 in the subject line of the message.

• Postal Mail: Ms. Brenda Edwards, U.S. Department of Energy, Building Technologies Program, Mailstop EE-2J, Public Meeting for Distribution Transformers, EERE-2010-BT-STD-0048, 1000 Independence Avenue SW., Washington, DC 20585-0121. Telephone (202) 586-2945. If possible, please submit all items on a compact disk (CD). It is not necessary to include printed copies.

• Hand Delivery/Courier: Ms. Brenda Edwards, U.S. Department of Energy, Building Technologies Program, 950 L'Enfant Plaza SW., Suite 600, Washington, DC 20024. Telephone (202) 586-2945. If possible, please submit all items on CD. It is not necessary to include printed copies.

Docket: The docket is available for review at www.regulations.gov including Federal Register notices, framework documents, public meeting attendee lists and transcripts, comments, and other supporting documents and materials. All documents in the docket are listed in the www.regulations.gov index. However, not all documents listed in the index may be publicly available, such as information that is exempt from public disclosure. The www.regulations.gov Web site will contain instructions on how to access all documents in the docket, including public comments.

The rulemaking Web site can be found at: http://www1.eere.energy.gov/buildings/appliance_standards/commercial/distribution_transformers.html. This Web site contains a link to the docket for this notice on www.regulations.gov.

For detailed instructions on submitting comments and additional information on the rulemaking process, see section II, “Public Participation,” of this document.

For further information on how to submit a comment, review other public comments in the docket, or participate in the public meeting, contact Ms. Brenda Edwards at (202) 586-2945 or by email: Brenda.Edwards@ee.doe.gov.

FOR FURTHER INFORMATION CONTACT: Direct requests for additional information to Mr. James Raba, U.S. Department of Energy, Office of Energy Efficiency and Renewable Energy, Building Technologies, EE-2J, 1000 Independence Avenue SW., Washington, DC 20585-0121, (202) 586-8654. Email: jim.raba@ee.doe.gov.

In the Office of General Counsel, contact Mr. Alan Strasser, U.S. Department of Energy, Office of the General Counsel, GC-71, 1000 Independence Avenue SW., Washington, DC 20585-0121, (202) 586-8269, alan.strasser@hq.doe.gov.

For information on how to submit or review public comments, and on how to participate in the public meeting, contact Ms. Brenda Edwards, U.S. Department of Energy, Office of Energy Efficiency and Renewable Energy, Building Technologies Program, EE-2J, 1000 Independence Avenue SW., Washington, DC 20585-0121. Telephone (202) 586-2945. Email: Brenda.Edwards@ee.doe.gov.

SUPPLEMENTARY INFORMATION:

I. Introduction

On February 10, 2012, DOE published a NOPR that proposed revised energy conservation standards for distribution transformers (77 FR 7282). On February 23, 2012, DOE held a public meeting to present the amended standards proposed in the NOPR and receive feedback on them and the underlying analyses.

In the NOPR and at the public meeting DOE asked for comment on whether certain types of liquid-immersed distribution transformers that are currently part of the same equipment classes warranted separation into distinct equipment classes. For example, pole- and pad-mounted distribution transformers are in the same equipment class and DOE asked for comment on whether they would be more appropriately evaluated as separate equipment classes.

A number of interested parties submitted written comments supporting an approach that separated pole- and pad-mounted liquid-immersed distribution transformers into separate equipment classes. Furthermore, many interested parties also urged DOE to consider separate equipment classes for network and vault distribution transformers, as well as those with basic impulse level (BIL) ratings above 200 kV.

In light of these comments, DOE decided to supplement its NOPR analysis to include several new trial standard levels (TSLs), which consider additional standards scenarios that represent the separate equipment classes that were supported by comments from several interested parties. The new TSLs, lettered “A” through “C,” contain separate standards for pole- and pad-mounted distribution transformers, and also incorporate the separation of network- and vault-based distribution transformers and distribution transformers with BIL ratings 200 kV and above into separate equipment classes. The new TSLs relate only to liquid-immersed distribution transformers. No modifications have been made to the dry-type distribution transformers analysis for the purposes of this notice and the public meeting.

Furthermore, DOE used these TSLs to supplement certain NOPR analyses, including the life-cycle cost and payback period analysis and provide interested parties with a perspective on how separate equipment classes may alter the analytical results presented with the NOPR. This information, as well as the analytical tools from the NOPR, is available on DOE's distribution transformer rulemaking Web site, located at: http://www1.eere.energy.gov/buildings/appliance_standards/commercial/distribution_transformers.html.

II. Public Participation

DOE invites input from the public on the supplementary information. The final rule establishing any amended energy conservation standards will contain the final analysis results, including any appropriate revisions following further review and consideration of public comments, and be accompanied by a final rule technical support document (TSD).

DOE encourages those who wish to participate in the public meeting to obtain the TSD from DOE's Web site and to be prepared to discuss its contents. A copy of the TSD is available at: http://www1.eere.energy.gov/buildings/appliance_standards/pdfs/dt_nopr_tsd_complete.pdf.

DOE welcomes all interested parties, regardless of whether they participate in the public meeting, to submit, in writing, by June 29, 2012, comments and information on matters addressed in the supplementary information and on other matters relevant to consideration of standards for liquid-immersed distribution transformers.

After the public meeting and the closing of the comment period, DOE will consider all timely submitted comments and additional information obtained from interested parties, as well as information obtained through further analyses, and thereafter prepare a final rule.

A. Procedure for Submitting Requests To Speak

Any person who has an interest in today's notice or who is a representative of a group or class of persons that has an interest in these issues may request an opportunity to make an oral presentation. Such persons may hand-deliver requests to speak, along with a computer diskette or compact disk (CD) in WordPerfect, Microsoft Word, portable document format (PDF) file, or American Standard Code for Information Interchange (ASCII) file format to Ms. Brenda Edwards at the address shown in the ADDRESSES section at the beginning of this NOPM, between 9 a.m. and 4 p.m., Monday through Friday, except Federal holidays. Requests may also be sent by postal mail to the address shown in the ADDRESSES section or by email to Brenda.Edwards@ee.doe.gov.

Persons requesting to speak should briefly describe the nature of their interest in this rulemaking and provide a telephone number for contact. DOE requests that each person selected to be heard submit in advance a copy of his or her statement not later than two weeks before the public meeting. At its discretion, DOE may permit a person who cannot supply an advance copy of his or her statement to participate, provided that person has made alternative arrangements in advance with the Building Technologies Program. The person who seeks to give an oral presentation should ask for such alternative arrangements.

B. Conduct of Public Meeting

DOE will designate a DOE official to preside at the public meeting and may also employ a professional facilitator to aid discussion. The meeting will not be a judicial or evidentiary-type public hearing, but DOE will conduct it in accordance with section 336 of the Energy Policy and Conservation Act. (42 U.S.C. 6306) A court reporter will record the proceedings and prepare a transcript. DOE reserves the right to schedule the order of presentations and to establish the procedures governing the conduct of the public meeting. After the public meeting, interested parties may submit further comments on the proceedings as well as on any aspect of the rulemaking until the end of the comment period.

The public meeting will be conducted in an informal conference style. DOE will present summaries of comments received before the public meeting, allow time for presentations by participants, and encourage all interested parties to share their views on issues affecting this rulemaking. Each participant will be allowed to make a prepared general statement (within DOE-determined time limits) prior to the discussion of specific topics. DOE will permit other participants to comment briefly on any general statements.

At the end of all prepared statements on a topic, DOE will permit participants to clarify their statements briefly and comment on statements made by others. Participants should be prepared to answer questions from DOE and other participants concerning these issues. DOE representatives may also ask questions of participants concerning other matters relevant to this rulemaking. The official conducting the public meeting will accept additional comments or questions from those attending, as time permits. The presiding official will announce any further procedural rules or modification of the above procedures that may be needed for the proper conduct of the public meeting.

A transcript of the public meeting will be included in the docket, which can be viewed as described in the Docket section at the beginning of this notice. In addition, any person may purchase a copy of the transcript from the transcribing reporter.

C. Submission of Comments

DOE will accept comments, data, and other information regarding the issues raised in this notice before or after the public meeting, but no later than the date provided at the beginning of this notice. Please submit comments, data, and other information as provided in the ADDRESSES section. Submit electronic comments in WordPerfect, Microsoft Word, PDF, or text (ASCII) file format and avoid the use of special characters or any form of encryption. Comments in electronic format should be identified by the docket number EERE-2010-BT-STD-0048 and/or RIN 1904-AC04 and wherever possible carry the electronic signature of the author. No telefacsimilies (faxes) will be accepted.

According to Title 10 of the Code of Federal Regulations, section 1004.11, any person submitting information that he or she believes to be confidential and exempt by law from public disclosure should submit two copies: One copy of the document including all the information believed to be confidential and one copy of the document with the information believed to be confidential deleted. DOE will make its own determination as to the confidential status of the information and treat it according to its determination.

Factors of interest to DOE when evaluating requests to treat submitted information as confidential include (1) a description of the items; (2) whether and why such items are customarily treated as confidential within the industry; (3) whether the information is generally known by or available from other sources; (4) whether the information has previously been made available to others without obligation concerning its confidentiality; (5) an explanation of the competitive injury to the submitting person which would result from public disclosure; (6) a date upon which such information might lose its confidential nature due to the passage of time; and (7) why disclosure of the information would be contrary to the public interest.

III. Approval of the Office of the Secretary

The Secretary of Energy has approved publication of this notice.

Issued in Washington, DC, on May 29, 2012.
Kathleen B. Hogan,
Deputy Assistant Secretary for Energy, Energy Efficiency and Renewable Energy.

[FR Doc. 2012-13401 Filed 6-1-12; 8:45 am]

BILLING CODE 6450-01-P